DEPARTMENT OF THE INTERIOR

Bureau of Land Management

[NV-930-1430-ES; NV-55282]

Notice of Realty Action: Recreation and Public Purposes (R&PP) Act Classification; Lease and Conveyance of Public Lands in Esmeralda County, Dyer, NV

AGENCY: Bureau of Land Management.

ACTION: Classification of public land for recreation and public purposes lease and conveyance.

SUMMARY: The following described public land in Esmeralda County, Nevada has been examined and found suitable for lease or conveyance to Esmeralda County under the provisions of the Recreation and Public Purposes Act of June 14, 1926, as amended (43 U.S.C. 869 et seq.). The lands are hereby classified for use as a community center, parking lot, and related facilities, in accordance with section 7 of the Taylor Grazing Act, 43 U.S.C. 315f, and Executive Order No. 6910, as suitable.

Mount Diablo Meridian

T. 3 S., R. 35 E.,

Sec. 9, E½SE¼SE¼SE¼NW¼, E½NE¼SE¼SE¼NW¼, E½SE¼NE¼SE¼NW¼, E½NE¼NE¼SE¼NW¼, SE¼SE¼SE¼NE¼NW¼, S½SW¼SW¼NW¼NE¼, S½SE¼SW¼NW¼NE¼, S½SW¼SE¼NW¼NE¼.

Containing 9.375 acres more or less.

This action will make lands which are not needed for Federal purposes and are identified for disposal in the Tonopah Resource Management Plan, available to support community expansion. Lease or conveyance of the lands for recreational or public purpose use would be in the public interest. Detailed information concerning this action is available for review at the office of the Bureau of Land Management, Tonopah Field Station, 1553 South Main Street, Tonopah, Nevada. Esmeralda County has applied for a patent to the land under the R&PP Act, as an addition to the Fish Lake Valley Community Center and Park.

Lease or conveyance (patent) of the lands will be subject to the following terms and conditions:

1. A right-of-way thereon for ditches or canals constructed by the authority of the United States, Act of August 30, 1890 (43 U.S.C. 945).

2. Provisions of the Recreation and Public Purposes Act and to all applicable regulations of the Secretary of the Interior.

3. All minerals shall be reserved to the United States, together with the right to prospect for, mine and remove the minerals.

4. All valid existing rights documented on the official public land records at the time of lease/patent issuance.

5. A right-of-way authorized under the Act of October 21, 1976, 90 Stat. 2776 (43 U.S.C. 1761) for powerline purposed granted to Valley Electric Association, its successor or assignees, by right-of-way No. N-55278.

6. A right-of-way authorized under the Act of October 21, 1976, 90 Stat. 2776 (43 U.S.C. 1761) for powerline purposed granted to Valley Electric Association, its successor or assignees, by right-of-way No. N-051579.

7. A right-of-way authorized under the Act of October 21, 1976, 90 Stat. 2776 (43 U.S.C. 1761) for telephone and telegraph purposes granted to Nevada Bell, its successor or assignees, by right-of-way No. N-035353. Expires June 29, 2032.

8. A right-of-way authorized for a Federal Aid Highway (Sec 107) under the Act of August 27, 1958, as amended 72 Stat. 892 (23 U.S.C. 107(D)), by right-of-way No. NVCC-0 020855 issued to the Nevada Department of Transportation.

9. Any other reservations that the authorized officer determines appropriate to ensure public access and proper management of Federal lands and interests therein.

Segregation

Upon publication of this notice in the Federal Register, the lands will be segregated from all other forms of appropriation under the public land laws, including the general mining laws, except for lease or conveyance under the R&PP Act, leasing under the mineral leasing laws, and mineral material disposal laws.

Classification Comments

Interested parties may submit comments involving the suitability of the land for community expansion. Comments on the classification are restricted to whether the land is physically suited for the proposal, whether the use is consistent with local planning and zoning, or if the use is consistent with State and Federal programs.

Application Comments

Interested parties may submit comments regarding the specific use proposed in the application and plan of development, whether the BLM followed proper administrative procedures in reaching the decision, or any other factor not directly related to the suitability of the land for community expansion.

DATES: For a period of 45 days from the date of publication of this notice in the Federal Register, interested parties may submit comments regarding the proposed lease/conveyance or classification of the lands to the Assistant Field Station Manager, Tonopah Field Station, P.O. Box 911, Tonopah, NV 89049. Any adverse comments will be reviewed by the State Director. In the absence of any adverse comments, the classification of the land described in this notice will become effective 60 days from the date of publication of this notice in the Federal Register. The lands will not be offered for lease and conveyance until after classification becomes effective.

FOR FUTHER INFORMATION CONTACT: Realty Specialist, Wendy Barlow, Bureau of Land Management, Tonopah Field Station, Post Office Box 911, Tonopah, Nevada 89049-0911 or telephone (775) 482-7806.

Dated: November 13, 2002.
William S. Fisher,
Assistant Field Manager, Tonopah.

[FR Doc. 03-597 Filed 1-10-03; 8:45 am]

BILLING CODE 4310-HC-P